DEPARTMENT OF HOUSING AND URBAN DEVELOPMENT

[Docket No. FR-5945-N-01]

Housing Trust Fund Federal Register Allocation Notice

AGENCY: Office of the Assistant Secretary for Community Planning and Development, HUD.

ACTION: Notice of Fiscal Year 2016 Funding Awards.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands. In accordance with Section 1338 (c)(4)(A) of the Act, this notice announces the formula allocation amount for each eligible HTF grantee.

FOR FURTHER INFORMATION CONTACT: Virginia Sardone, Director, Office of Affordable Housing Programs, Room 7164, Department of Housing and Urban Development, 451 Seventh Street SW., Washington, DC 20410-7000; telephone (202) 708-2684. (This is not a toll-free number.) A telecommunications device for hearing- and speech-impaired persons (TTY) is available at 800-877-8339 (Federal Information Relay Service).

SUPPLEMENTARY INFORMATION: Section 1131 of HERA Division A amended the Act to add a new section 1337 entitled “Affordable Housing Allocations” and a new section 1338 entitled “Housing Trust Fund.” HUD's implementing regulations are codified at 24 CFR part 93.

Congress authorized the HTF with the stated purpose of: (1) Increasing and preserving the supply of rental housing for extremely low-income families with incomes between 0 and 30 percent of area median income and very low-income families with incomes between 30 and 50 percent of area median income, including homeless families, and (2) increasing homeownership for extremely low-income and very low-income families.

Section 1337 of the Act provides for the HTF (and other programs) to be funded with an affordable housing set aside by Fannie Mae and Freddie Mac. The total set-aside amount is equal to 4.2 basis points (.042 percent) of Fannie Mae and Freddie Mac's new mortgage purchases, a portion of which is for the HTF.

Section 1338 of the Act directs HUD to establish, through regulation, the formula for distribution of amounts made available for the HTF. The statute specifies the factors to be used for the formula and priority for certain factors. The factors and methodology HUD uses to allocate HTF funds among eligible grantees are established in the HTF regulation. The funding announced for Fiscal Year 2016 through this notice is $173,591,160. Appendix A to this notice provides the names and the amounts of the awards.

Dated: April 22, 2016.
Clifford Taffet,
General Deputy Assistant Secretary for Community Planning and Development.

Appendix A: FY 2016 Housing Trust Fund Allocation Amounts

Grantee | FY 2016 Allocation
Alabama | $3,000,000
Alaska | 3,000,000
Arizona | 3,000,000
Arkansas | 3,000,000
California | 10,128,143
Colorado | 3,000,000
Connecticut | 3,000,000
Delaware | 3,000,000
District of Columbia | 3,000,000
Florida | 4,598,821
Georgia | 3,314,612
Hawaii | 3,000,000
Idaho | 3,000,000
Illinois | 4,302,012
Indiana | 3,000,000
Iowa | 3,000,000
Kansas | 3,000,000
Kentucky | 3,000,000
Louisiana | 3,000,000
Maine | 3,000,000
Maryland | 3,000,000
Massachusetts | 3,419,569
Michigan | 3,522,622
Minnesota | 3,000,000
Mississippi | 3,000,000
Missouri | 3,000,000
Montana | 3,000,000
Nebraska | 3,000,000
Nevada | 3,000,000
New Hampshire | 3,000,000
New Jersey | 3,733,566
New Mexico | 3,000,000
New York | 7,013,963
North Carolina | 3,280,235
North Dakota | 3,000,000
Ohio | 3,740,578
Oklahoma | 3,000,000
Oregon | 3,000,000
Pennsylvania | 3,862,285
Rhode Island | 3,000,000
South Carolina | 3,000,000
South Dakota | 3,000,000
Tennessee | 3,000,000
Texas | 4,778,364
Utah | 3,000,000
Vermont | 3,000,000
Virginia | 3,139,830
Washington | 3,243,721
West Virginia | 3,000,000
Wisconsin | 3,004,558
Wyoming | 3,000,000
American Samoa | 12,321
Guam | 77,609
N. Mariana Islands | 35,735
Puerto Rico | 326,054
Virgin Islands | 56,562
Total | 173,591,160

[FR Doc. 2016-10508 Filed 5-4-16; 8:45 am]

BILLING CODE 4210-67-P